SURFACE TRANSPORTATION BOARD

[Docket No. AB 290 (Sub-No. 295X); Docket No. AB 866 (Sub-No. 1X)]

Norfolk Southern Railway Company—Abandonment Exemption—in Chowan County, N.C.; North Carolina & Virginia Railroad Company, L.L.C., Chesapeake & Albemarle Railroad Division—Discontinuance of Service Exemption—in Chowan County, N.C.

ACTION: Correction to Notice of Exemption.

On July 20, 2007, Norfolk Southern Railway Company (NSR) and North Carolina & Virginia Railroad Company, The Chesapeake & Albemarle Division (NCVA), jointly filed a verified notice of exemption under 49 CFR. 1152.50 for NSR to abandon, and for NCVA to discontinue service over, approximately 0.08 miles of rail line between milepost NS 73.59, and milepost NS 73.67, at Edenton, N.C. On August 9, 2007, notice of the exemption was served and published in the Federal Register (72 FR 44,920).

The notice published on August 9, 2007, erroneously described milepost NS 73.59 as milepost NS 73.50.¹ Accordingly, this notice corrects the description of the milepost. All other information in the August 9, 2007 notice is correct.

¹ The Board noted this error in a notice published in a separate docket, in which NCVA filed a verified notice of exemption to enter into a superseding and replacement lease with NSR for lines of railroad in Virginia and North Carolina. N. Carolina & Va. R.R., Chesapeake & Albemarle R.R. Division—Lease Amendment & Operation Exemption Including Interchange Commitment—Norfolk S. Ry., FD 36252, slip op. at 2 n.4 (STB served Dec. 6, 2018).

Board decisions and notices are available at www.stb.gov.

Decided: March 7, 2019.
By the Board, Allison C. Davis, Acting Director, Office of Proceedings.
Jeffrey Herzig,
Clearance Clerk.

[FR Doc. 2019-04570 Filed 3-12-19; 8:45 am]

BILLING CODE 4915-01-P